FEDERAL DEPOSIT INSURANCE CORPORATION

Update to Notice of Financial Institutions for Which the Federal Deposit Insurance Corporation Has Been Appointed Either Receiver, Liquidator, or Manager

AGENCY: Federal Deposit Insurance Corporation.

ACTION: Update listing of financial institutions in liquidation.

SUMMARY: Notice is hereby given that the Federal Deposit Insurance Corporation (Corporation) has been appointed the sole receiver for the following financial institutions effective as of the Date Closed as indicated in the listing. This list (as updated from time to time in the Federal Register) may be relied upon as “of record” notice that the Corporation has been appointed receiver for purposes of the statement of policy published in the July 2, 1992 issue of the Federal Register (57 FR 29491). For further information concerning the identification of any institutions which have been placed in liquidation, please visit the Corporation Web site at http://www.fdic.gov/bank/individual/failed/banklist.html or contact the Manager of Receivership Oversight in the appropriate service center.

Dated: February 14, 2011.
Pamela Johnson,
Regulatory Editing Specialist, Federal Deposit Insurance Corporation.

Institutions in Liquidation
[in alphabetical order]
FDIC Ref. No. | Bank name | City | State | Date closed
10339 | Badger State Bank | Cassville | WI | 2/11/2011
10340 | Canyon National Bank | Palm Springs | CA | 2/11/2011
10341 | Peoples State Bank | Hamtramck | MI | 2/11/2011
10342 | Sunshine State Community Bank | Port Orange | FL | 2/11/2011

[FR Doc. 2011-4073 Filed 2-23-11; 8:45 am]

BILLING CODE 6714-01-P